DEPARTMENT OF TRANSPORTATION

National Highway Traffic Safety Administration

49 CFR Part 575

[Docket No. NHTSA-2011-0099]

RIN 2127-AK76

Tire Fuel Efficiency Consumer Information Program

AGENCY: National Highway Traffic Safety Administration (NHTSA), Department of Transportation (DOT).

ACTION: Notice of public workshop and agenda.

SUMMARY: On March 30, 2010, NHTSA published a final rule specifying the test methods to be used for a new tire fuel efficiency consumer information program (TFECIP) to measure three aspects of tire performance: Rolling resistance, wet traction, and treadwear. The final rule did not include any of the requirements for the consumer information and education portions of the TFECIP. Instead, NHTSA announced that, based on the comments the agency had received on the proposal that preceded its final rule, it had decided to conduct additional research before issuing a new proposal for these requirements. NHTSA hopes to issue this new proposal in 2012; however, it has decided that it would be helpful to have a public workshop to obtain feedback on some issues that either have proved difficult to explore effectively in the research NHTSA has conducted or have arisen since the publication of the March 2010 final rule.

NHTSA invites interested parties to submit written comments and to participate in a public workshop using the instructions set forth in this notice. As described in the Procedural Matters section of this notice, each speaker should anticipate speaking for approximately ten minutes, although we may need to adjust the time for each speaker if there is a large turnout. To facilitate discussion, NHTSA has placed documents concerning research NHTSA has finalized since the March 2010 final rule in the docket. NHTSA will consider the public comments received in developing the new proposal regarding the remaining aspects of the TFECIP.

DATES: Public Workshop: The public workshop will be held on Friday, February 3, 2012 from 10 a.m. to 5 p.m. at the San Francisco Federal Building, 90 7th Street, San Francisco, CA 94013. NHTSA notes that all persons attending the workshop will need to clear security before entering the meeting room and should plan their arrival time accordingly. If you wish to attend or speak at the workshop, you must register in advance no later than Friday, January 27, 2012, by following the instructions in the Procedural Matters section of this notice. NHTSA will consider late registrants to the extent time and space allows, but NHTSA cannot ensure that late registrants will be able to speak at the workshop.

Comments: NHTSA must receive written comments by Friday, February 17, 2012.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue SE., Washington, DC 20590.

• Hand Delivery or Courier: U.S. Department of Transportation, West Building, Ground Floor, Room W12-140, 1200 New Jersey Avenue SE., Washington, DC, between 9 a.m. and 5 p.m. Eastern time, Monday through Friday, except Federal holidays.

• Fax: (202) 493-2251.

Regardless of how you submit your comments, you should mention the docket number of this document. You may call the Docket at 1-(800) 647-5527.

Note that all comments received, including any personal information, will be posted without change to http://www.regulations.gov.

FOR FURTHER INFORMATION CONTACT: Ms. Mary Versailles, Telephone: 1-(202) 366-2057, Office of International Vehicle, Fuel Economy and Consumer Standards, National Highway Traffic Safety Administration, 1200 New Jersey Avenue SE., Washington, DC 20590. Email: mary.versailles@dot.gov.

SUPPLEMENTARY INFORMATION: On June 22, 2009, NHTSA published a notice of proposed rulemaking (NPRM) proposing a new consumer information program for replacement tires (74 FR 29542; Docket No. NHTSA-2008-0121). The new consumer information program responded to a requirement in the Energy Independence and Security Act of 2007 (EISA; Pub. L. 110-140, 121 Stat. 1492 (Dec. 18, 2007)), that directed NHTSA to develop a national tire fuel efficiency rating system and consumer education program for replacement tires. The program would inform consumers about the effect of tires on fuel efficiency, safety and durability.

On March 30, 2010, NHTSA published a final rule specifying the test methods to be used for a new tire fuel efficiency consumer information program (TFECIP) to measure three aspects of tire performance: rolling resistance, wet traction, and treadwear (75 FR 15894; Docket No. NHTSA-2010-0036). The final rule did not include any of the requirements for the consumer information and education portions of the TFECIP. Instead, NHTSA announced that, based on the public comments the agency had received on its NPRM, it had decided to conduct additional research before issuing a new proposal for these requirements. NHTSA hopes to issue this new proposal in 2012; however, it has decided that it would be helpful to have a public workshop to obtain feedback on some issues that either have proved difficult to effectively explore in the research NHTSA has conducted or have arisen since the publication of the March 2010 final rule.

While NHTSA welcomes the presentation of any information that interested parties believe will assist NHTSA in issuing the supplemental notice of proposed rulemaking (SNPRM), NHTSA is particularly interested in presentations that address the following topics:

1. Rolling Resistance Coefficient (RRC) versus Rolling Resistance Force (RRF). NHTSA's original proposal based the fuel efficiency rating on RRF. NHTSA received numerous comments expressing the belief that the rating should be based on RRC. NHTSA would welcome any new or additional information on this issue.

2. Experience in Other Countries. At the time of the previous rulemaking, NHTSA was aware of work by Europe and Japan to implement similar rating systems. NHTSA is aware that the Republic of Korea has adopted a rating system since then. NHTSA would welcome a discussion of any experience that interested parties have had with the implementation of these other systems.

3. Laboratory Alignment. In the March 2010 final rule, NHTSA indicated that, because the ISO had not yet specified a reference lab for the ISO 28580 test procedure, NHTSA would specify one or more laboratories to operate the reference test machine(s) for the TFECIP. This would allow tire manufacturers to know the identity of the machine against which they would correlate their test results. While this is still NHTSA's plan, it is aware that questions exist concerning whether or not it is possible to meet the sigma requirements specified in the ISO regulation. NHTSA is also aware that other countries have adopted or are exploring other options. NHTSA has begun discussing other options and is interested in any recommendations interested parties may have. In particular, NHTSA would be interested in any experience with efforts to address lab-to-lab variability under the ISO 28580 procedure.

4. Future Production. To assist with estimating the potential benefits of the rule and with defining the rating ranges, NHTSA would be interested in any information manufacturers would be willing to share about how tires are likely to change in the future because of this pending regulation and any other new regulations. See the Procedural Matters section on how this information could be submitted confidentially.

Procedural Matters: The workshop will be open to the public with advanced registration for seating on a space-available basis. Individuals wishing to register to assure a seat in the public seating area should provide their name, affiliation, phone number, and email address to Ms. Mary Versailles using the contact information in the FOR FURTHER INFORMATION CONTACT section at the beginning of this notice no later than Friday, January 27, 2012. Should it be necessary to cancel the workshop due to an emergency or some other reason, NHTSA will take all available means to notify registered participants by email or telephone.

The workshop will be held at a site accessible to individuals with disabilities. Individuals who require accommodations such as sign language interpreters should contact Ms. Mary Versailles using the contact information in the FOR FURTHER INFORMATION CONTACT section above no later than Friday, January 27, 2012. Any written materials NHTSA presents at the workshop will be available electronically on the day of the workshop to accommodate the needs of the visually impaired. A transcript of the workshop will be created, however speakers may also submit materials to the docket for the record.

How long will I have to speak at the public workshop?

Once NHTSA learns how many people have registered to speak at the public workshop, NHTSA will allocate an appropriate amount of time to each participant, allowing time for lunch and necessary breaks throughout the day. For planning purposes, each speaker should anticipate speaking for approximately ten minutes, although we may need to adjust the time for each speaker if there is a large turnout. To accommodate as many speakers as possible, NHTSA prefers that speakers not use technological aids (e.g., audio-visuals, computer slideshows). However, if you plan to do so, you must let Ms. Mary Versailles know by Friday, January 27, 2012, using the contact information in the FOR FURTHER INFORMATION CONTACT section above. You also must make arrangements to provide your presentation or any other aids to NHTSA in advance of the workshop in order to facilitate set-up.

How do I prepare and submit written comments?

It is not necessary to attend or to speak at the public workshop to be able to comment on the issues. NHTSA invites the submission of written comments, which the agency will consider in preparing its SNPRM. Your comments must be written and in English. To ensure that your comments are correctly filed in the Docket, please include the docket number at the beginning of this notice in your comments.

Your primary comments may not exceed 15 pages. However, you may attach supporting documents to your primary comments. There is no limit to the length of the attachments.

Anyone is able to search the electronic form of all comments received into any of our dockets by the name of the individual submitting the comment (or signing the comment, if submitted on behalf of an association, business, labor union, etc.). You may review DOT's complete Privacy Act Statement in the Federal Register at 65 FR 19477, April 11, 2000, or you may visit http://www.regulations.gov.

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Avenue SE., Washington, DC 20590. Include a cover letter supplying the information specified in our confidential business information regulation (49 CFR part 512).

In addition, send two copies from which you have deleted the claimed confidential business information to Docket Management, 1200 New Jersey Avenue SE., West Building, Room W12-140, Washington, DC 20590, or submit them electronically, in the manner described at the beginning of this notice.

Will the agency consider late comments?

NHTSA will consider all comments that Docket Management receives before the close of business on the comment closing date indicated above under DATES. To the extent the rulemaking schedule allows, NHTSA will try to consider comments that Docket Management receives after that date, but we cannot ensure that we will be able to do so.

Please note that even after the comment closing date we will continue to file relevant information in the docket as it becomes available. Further, some commenters may submit late comments. Accordingly, we recommend that you periodically check the docket for new material.

Rulemaking Analyses and Notices

Executive Orders 12866 and 13563 and DOT Regulatory Policies and Procedures

Executive Order 12866, “Regulatory Planning and Review,” and Executive Order 13563, “Improving Regulation and Regulatory Review,” and the Department of Transportation's regulatory policies require this agency to make determinations as to whether a regulatory action is “significant” and therefore subject to OMB review and the requirements of the aforementioned Executive Orders. Executive Order 12866 defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the potential impact of this rulemaking under Executive Order 12866, Executive Order 13563, and the Department of Transportation's regulatory policies and procedures. This document invites interested parties to submit written comments and participate in a public meeting on topics related to the development of a SNPRM that will propose requirements for the consumer information and education portions of the Tire Fuel Efficiency Consumer Information Program. We cannot now determine how the costs and benefits of the yet-to-be-developed supplemental proposal might differ from those described in the Preliminary Regulatory Impact Analysis that accompanied the June 22, 2009, NPRM. (Docket No. NHTSA-2008-0121-0015.) A full analysis of the costs and benefits will be released with the SNPRM.

Other Analyses

Because we have not yet determined the requirements that will be proposed in the SNPRM, it would be premature to conduct any analyses pursuant to the applicable requirements of the National Environmental Policy Act, the Regulatory Flexibility Act, Executive Order 13132 (Federalism), Executive Order 12988 (Civil Justice Reform), the Unfunded Mandates Reform Act, the Paperwork Reduction Act, Executive Order 13045 (Protection of Children from Environmental Health and Safety Risks), the National Technology Transfer and Advancement Act, and Executive Order 13211(Energy Effects). We will provide all necessary analyses pursuant to these regulatory requirements in the SNPRM.

Issued: January 19, 2012.
Christopher J. Bonanti,
Associate Administrator for Rulemaking.

[FR Doc. 2012-1525 Filed 1-20-12; 4:15 pm]

BILLING CODE 4910-59-P